DEPARTMENT OF THE INTERIOR

Bureau of Land Management

[LLAKF03000-LV.CL.00000000-F029421]

Notice of Realty Action: Non-Competitive Sale of Reversionary Interest, Portion of Recreation and Public Purposes Patent Number 50-65-0288

AGENCY: Bureau of Land Management, Interior.

ACTION: Notice of Realty Action.

SUMMARY: The Bureau of Land Management has examined and found suitable for direct sale under section 203 of the Federal Land Policy and Management Act of 1976 (Public Law 94-579, as amended; 43 CFR 2711.3-3), 4,519.35 sq. feet of public land located in Fairbanks, Alaska.

DATES: Interested parties may submit comments regarding whether the BLM followed proper administrative procedures in reaching the decision or any other factor not directly related to the suitability of the land for a direct sale to the BLM Field Manager, Central Yukon Field Office, at the address below. Comments must be received no later than December 29, 2008. Only written comments will be accepted. Any adverse comments will be reviewed by the State Director. In the absence of any adverse comments, the decision will become effective January 12, 2009. The lands will not be offered for conveyance until after the decision becomes effective.

ADDRESSES: Address all written comments concerning this notice to the BLM Central Yukon Field Manager, 1150 University Ave., Fairbanks, Alaska 99709.

FOR FURTHER INFORMATION CONTACT: Joyce Voight, Realty Specialist, (907) 474-2247 or by e-mail: joyce_voight@blm.gov.

SUPPLEMENTARY INFORMATION: The following described land in Fairbanks, Alaska, was patented to the City of Fairbanks, pursuant to the Act of Congress of June 14, 1926 (44 Stat. 741, as amended; 43 U.S.C. 869) on November 2, 1964 for a public park. Certificate of Approval of Transfer and Change of Use was issued on July 25, 2007, to the Greater Fairbanks Community Hospital Foundation, Inc., for use for Hospital Support Purposes instead of a public park recreation site.

Fairbanks Meridian, Alaska

The east 33 feet of Lot 69, U.S. Survey 3148, situated within Sec. 15, T. 1 S, R. 1W, subsequently surveyed as west 33 feet of Lot 70-A-1 containing 4,519.35 square feet. The patent contains a reversionary interest to the United States. The Greater Fairbanks Community Hospital Foundation, Inc., requests the purchase of the reversionary interest at not less than the fair market value of $6,299.75 as determined by a BLM-approved appraisal for a portion of the patented land, on the following described land.

The Federal interest has been examined and found suitable for sale under the provisions of section 203 of the Federal Land Policy and Management Act of 1976 (Public Law 94-579, as amended; 43 CRF 2711.3-3).

Direct sale procedures to the Greater Fairbanks Community Hospital Foundation, Inc., are considered appropriate in this case, as the land was transferred to the Greater Fairbanks Community Hospital Foundation, Inc., and transfer of the Federal interest to any other entity would not protect existing equities in the land. The direct sale is consistent with current Bureau planning for this area and would be in the public interest. The land is not required for any Federal purpose. The patent will be subject to the provisions of the Federal Land Policy and Management Act and applicable regulations of the Secretary of the Interior and the land will continue to be subject to the following reservations to the United States:

1. Any vested and accrued water rights for mining, agricultural, manufacturing, or other purposes, and rights to ditches and reservoirs used in connection with such water rights, as may be recognized and acknowledged by the local customs, laws, and decisions of courts.

2. A right-of-way thereon for ditches or canals constructed by the authority of the United States, Act of August 30, 1890 (26 Stat. 391, 43 U.S.C. 945).

3. A right-of-way for the construction of railroads, telegraph and telephone lines, in accordance with the Act of March 12, 1914 (36 Stat. 305; 48 U.S.C. Sec 308).

4. All mineral deposits in the land, together with the right to prospect for, mine and remove such deposits from the same under applicable law and such regulations as the Secretary of the Interior may prescribe.

Detailed information concerning this action, including the approved appraisal report, is available for review at the Central Yukon Field Office, Bureau of Land Management, 1150 University Ave., Fairbanks, AK 99709.

Written comments must be received by the Central Yukon Field Manager, at the address stated above, on or before the date stated above. Facsimiles, telephone calls, and e-mails are unacceptable means of notification. Comments including names and street addresses of respondents will be available for public review at the BLM Central Yukon Field Office during regular business hours, except holidays. Before including your address, phone number, e-mail address, or other personal identifying information in your comment, you should be aware that your entire comment—including your personal identifying information—may be made publicly available at any time. While you can ask us in your comment to withhold your personal identifying information from public review, we cannot guarantee that we will be able to do so. Any adverse comments will be reviewed by the BLM Alaska State Director, who may sustain, vacate or modify this realty action. In the absence of any objections, or adverse comments, the proposed realty action will become the final determination of the Department of the Interior.

Authority: 43 CFR 2711.1-2(a).

Dated: November 5, 2008.
Nichelle Jacobson,
Manager, Central Yukon Field Office.

[FR Doc. E8-26913 Filed 11-12-08; 8:45 am]

BILLING CODE 4310-JA-P